DEPARTMENT OF HOMELAND SECURITY

Coast Guard

33 CFR Part 117

[Docket No. USCG-2014-0961]

Drawbridge Operation Regulation; Atlantic Intracoastal Waterway, Chesapeake, VA

AGENCY: Coast Guard, DHS.

ACTION: Notice of temporary deviation from drawbridge regulation.

SUMMARY: The Coast Guard has issued a temporary deviation from the operating schedule that governs the S168 Bridge (Battlefield Boulevard) across the Atlantic Intracoastal Waterway, Albemarle and Chesapeake Canal, mile 12.0, Chesapeake (Great Bridge), VA. The deviation is necessary to safely accommodate the annual Christmas parade. This deviation allows the bridge to remain in the closed position for the set up of the event and the duration of the Christmas parade.

DATES: This deviation is effective from 4 p.m. to 9 p.m. on December 6, 2014.

ADDRESSES: The docket for this deviation, [USCG-2014-0961] is available at http://www.regulations.gov. Type the docket number in the “SEARCH” box and click “SEARCH.” Click on the Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this deviation, call or email Mrs. Kashanda L. Booker, Bridge Management Specialist, Fifth District, Coast Guard, telephone 757-398-6227, email Kashanda.L.Booker@uscg.mil. If you have questions on viewing the docket, call Cheryl Collins, Program Manager, Docket Operations, telephone 202-366-9826.

SUPPLEMENTARY INFORMATION: The City of Chesapeake, who owns and operates the S168 (Battlefield Boulevard) Bridge across the Atlantic Intracoastal Waterway, Albemarle and Chesapeake Canal, mile 12.0 at Chesapeake (Great Bridge), VA has requested a temporary deviation from the current operating regulations to accommodate their annual Christmas parade.

The S168 Bridge operating regulations are set out in 33 CFR 117.997(g). The S168 Bridge opens on signal; except that, from 6 a.m. to 7 p.m., the draw need be opened only on the hour, or if the vessel cannot reach the draw exactly on the hour, the draw tender may delay the hourly opening up to ten minutes past the hour.

In the closed-to-navigation position, this lift-type drawbridge provides a vertical-clearance of 8.5 feet above mean high water.

Under this temporary deviation, the drawbridge will remain in the closed position to vessels requiring an opening from 4 p.m. to 9 p.m. on December 6, 2014 to safely accommodate the Chesapeake annual Christmas parade event.

Vessels able to safely pass under the drawbridge while it is in the closed position may do so at any time. The Atlantic Intracoastal Waterway caters to a variety of vessels from tug and barge traffic to recreational vessels traveling from Florida to Maine. The Atlantic Ocean is the alternate route for vessels and the bridge will be able to open in the event of an emergency. The Coast Guard will also inform the users of the waterways through Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: November 3, 2014.
James L. Rousseau,
Bridge Program Manager, Fifth Coast Guard District.

[FR Doc. 2014-27170 Filed 11-14-14; 8:45 am]

BILLING CODE 9110-04-P